DEPARTMENT OF VETERANS AFFAIRS

Voluntary Service National Advisory Committee; Notice of Meeting

The Department of Veterans Affairs gives notice under Public Law 92-463 that the annual meeting of the Department of Veterans Affairs Voluntary Service National Advisory Committee will be held at the Clarion Plaza Hotel, 9700 International Boulevard, Orlando, FL, May 31-June 3, 2000. The meeting begins with participant registration from 12 noon to 5 p.m. on Tuesday, May 30, and from 8 am to 5 pm Wednesday, May 31, through Friday, June 2, 2000, in Ballroom C/D Foyer.

The committee, comprised of fifty nine national voluntary organizations, advises the Under Secretary of Health and other members of the Department of Veterans Affairs Central Office staff on how to coordinate and promote volunteer activities within VA facilities. The primary purposes of this meeting are: To provide for committee review of volunteer policies and procedures; to accommodate full and open communications between the organizations, representatives and the Voluntary Service Office and field staff; to provide educational opportunities geared towards improving volunteer programs with special emphasis on methods to recruit, retain, motivate and recognize volunteers; and to approve committee recommendations.

Pre-meeting activities include: Tuesday, May 30, 2000, VAVS Field Staff will meet from 4 p.m. until 6 p.m. in Salon 5 & 6; the National Executive Committee will meet on Wednesday, May 31, from 8 a.m. until 12 p.m. in Salon 5 & 6; VISN 8 staff will provide a Health Fair from 9 a.m.-5 p.m. in Salon 7; there will be an a new member orientation from 1:00 p.m. until 2:30 p.m. in Ballroom D; and from 3 p.m. until 4:30 p.m. there will be an open forum in Ballroom D. Opening ceremonies will begin at 6:00 p.m. featuring Thomas L. Garthwaite, M.D., as keynote speaker.

On Thursday, June 1, 2000, there will be a Business Session from 8:30 a.m. until 11:30 a.m. in Ballroom D. The workshop topics include, Satisfaction Through Service, Salon 4; Volunteerism Corporate Style, Salon 5; Where Have All the Volunteers Gone—Recruitment/Retention, Salon 7 & 8; Homeless Veterans Programs, Salon 9 & 10.

On Friday, June 2, 2000, a NAC Business Session will be held from 8:30 a.m.-10 a.m., Ballroom C & D. The educational workshops will be repeated from 10:30 a.m.-12:30 p.m. and from 3 p.m.-4:30 p.m., rooms remain the same as on Thursday. The James H. Parke luncheon will be from 12:30 p.m.-2 p.m. in Ballroom C & D, honoring the 2000 recipient of the James H. Parke Scholarship.

On the morning of Saturday, June 3, 2000, the NAC will hold a Business Session from 8:30 a.m.-11:30 a.m. in Ballroom C & D. A critique of the meeting will be held from 11:30 a.m.-12:30 p.m. in Salon 3 & 4. A closing celebration honoring the NAC Volunteers of the Year will be held in Ballroom C & D, beginning at 6:00 p.m.

The meeting is open to the public. Individuals interested in attending are encouraged to contact: Ms. Laura Balun, Administrative Officer, Voluntary Service Office (10C2), Department of Veterans Affairs, 810 Vermont Avenue, NW, Washington, DC, 20420, (202) 273-8392.

Dated: May 11, 2000.
By Direction of the Secretary.
Marvin R. Eason,
Committee Management Officer.

[FR Doc. 00-9607 Filed 4-17-00; 8:45 am]

BILLING CODE 8320-01-M